DEPARTMENT OF THE INTERIOR

National Park Service

[NPS-CHCH-DTS 29367; PPSECHCH00; PPMPSAS1Z.Y00000]

Written Determination: Bicycle Use at Chickamauga and Chattanooga National Military Park

AGENCY: National Park Service, Interior.

ACTION: Notice of Written Determination.

SUMMARY: The National Park Service determines that allowing bicycles on certain administrative roads and two miles of existing hiking trails within Chickamauga and Chattanooga National Military Park is consistent with the protection of the park's natural, scenic, and aesthetic values; safety considerations; and management objectives; and will not disturb wildlife or park resources.

DATES: Comments on this written determination must be received by 11:59 EDT on February 16, 2021.

ADDRESSES: You may submit comments by either of the following methods:

(1) Electronically: Visit https://parkplanning.nps.gov/chch and click on the link entitled “Open for Comment”.

(2) By hard copy: Mail to Park Superintendent, Chickamauga and Chattanooga National Military Park, 3370 Lafayette Road, Fort Oglethorpe, GA 30742.

Document Availability: The Proposed Bicycle Use Jackson Gap and John Smartt Trails Environmental Assessment and Finding of No Significant Impact provide information and context for this written determination and are available online at https://parkplanning.nps.gov/chch.

FOR FURTHER INFORMATION CONTACT: Brad Bennett, Superintendent, Chickamauga and Chattanooga National Military Park, (706) 866-9241 x115, brad_bennett@nps.gov.

SUPPLEMENTARY INFORMATION:

Background

In 1890, Congress established Chickamauga and Chattanooga National Military Park (the park) to preserve the sites of some of the most remarkable maneuvers and brilliant fighting of the Civil War for historical and professional military study. In addition to the primary purpose for which it was established, the NPS manages the park to allow for recreational activity, which began to increase significantly in the late 1960s and early 1970s. In the 1980s, concerned about potential impacts from the use of mountain bicycles that were becoming very popular at the time, the NPS limited bicycles to (1) park roads open for motor vehicle use by the general public; and (2) a subset of administrative roads closed to motor vehicle use by the public, but open to motor vehicle use by the NPS for administrative purposes. This management framework continues today. Bicycles are allowed on park roads and on the following administrative roads:

• Dalton Ford Road

• Thedford Ford Road

• Vittetoe Road

• Mullis-Vittetoe Road

• the roads located within the South Post area

• the roads known as the Upper Truck Trail and the Lower Truck Trail.

In 2015, the NPS completed the Lookout Mountain Battlefield General Management Plan Amendment (GMPA). The GMPA establishes long-term goals for preserving the park's natural and cultural resources and improving interpretive, educational, and recreational opportunities for visitors. During the scoping period for the GMPA, the NPS received a request to open approximately two miles of the Jackson Gap Trail and the upper portion of the John Smartt Trail to bicycle use. Public comments received during the GMPA supported bicycle use on these two trails. In order to evaluate the potential impacts from the use of bicycles on these trails, the NPS issued the Proposed Bicycle Use Jackson Gap and John Smartt Trails Environmental Assessment (EA) in May 2019. The EA considered two alternatives: (1) A no action alternative that would continue to allow only hiking on these trails; and (2) the NPS preferred alternative that would also allow bicycling on the portions of these trails identified in the EA. The EA was open for public review and comment for 30 days. On September 13, 2019, the Regional Director for DOI Unified Region 2 South Atlantic-Gulf signed a Finding of No Significant Impact that identified the preferred alternative in the EA as the selected alternative.

Prior to designating the trails for bicycle use, NPS regulations at 36 CFR 4.30(d)(3) require the Superintendent to determine that the addition of bicycles is consistent with the protection of the park's natural, scenic and aesthetic values, safety considerations, and management objectives, and will not disturb wildlife or park resources. The regulations require that this written determination be published in the Federal Register for a 30-day public comment period. After the 30-day public review period concludes, the Regional Director will evaluate whether to approve the written determination. If the Regional Director approves the written determination, the Superintendent may designate the trails for bicycle use and will provide notice of such designation to the public under 36 CFR 1.7.

During the preparation of this written determination for the Jackson Gap and John Smartt Trails, the NPS recognized an opportunity to evaluate bicycle use on the administrative roads where bicycles are already allowed. NPS regulations require the Superintendent to determine that bicycle use on administrative roads is consistent with the protection of the park's natural, scenic, and aesthetic values; safety considerations; and management objectives; and will not disturb wildlife or park resources. 36 CFR 4.30(b). This is the same written determination that must be made before allowing bicycles on the Jackson Gap Trail and John Smartt Trails. For this reason, this written determination applies to two separate management actions: (1) Continuing to allow bicycles on the administrative roads identified above; and (2) allowing bicycles for the first time on the approximately two miles of the Jackson Gap Trail and the upper portion of the John Smartt Trail that are identified in the EA.

Written Determination

Park Significance, Purpose, and Values

As stated above, Congress established the park in 1890 for its historic significance. Consisting of more than 9,000 acres, the park is the largest federally protected Civil War battlefield in the United States. The park encompasses multiple administrative units along the Tennessee-Georgia border and contains nearly 1,500 commemorative features such as monuments, markers, and tablets. The park is located in Catoosa, Dade, and Walker Counties in Georgia, and Hamilton County in Tennessee.

A formal statement of the purpose and significance of the park is set forth in the park's 2016 Foundation Document. The purpose of the park is to preserve, protect, and interpret the nationally significant resources associated with the Civil War Campaign for Chattanooga and the 12,000 years of American Indian presence on Moccasin Bend. The fundamental historic and cultural resources and values that contribute to this purpose include battlefields and related sites, commemorative features, archeological resources, strategic and important views, and the contemplative experience.

In addition to these resources and values, the park includes one of the few large open spaces within and near the Chattanooga metropolitan area. The paved tour roads and hiking trails in the park provide outstanding opportunities for recreation and alternative ways to experience park landscapes. Use of the park for fitness activities like walking, running, and bicycling creates a unique opportunity to engage community members and foster the relevancy of the park with local stakeholders. The flora and fauna protected within the park provide the public with opportunities to view wildlife and enjoy natural beauty and scenic views. Recreation at the park provides an opportunity for current and future generations of visitors to experience and appreciate the park in different ways, while at the same time respecting and commemorating the solemnity of the battlefields.

Management Objectives

Continuing to allow bicycles on the subset of administrative roads where they are already allowed and adding bicycles to the two miles of existing hiking trails is consistent with the GMPA and the Foundation Document, which emphasize improvements to the visitor experience through the expansion of appropriate recreational activities, including bicycling, while protecting and preserving the park's natural and cultural resources.

Bicycling on the administrative roads has occurred for more than 100 years and is an established form of visiting and experiencing the park. Continuing to allow bicycles on the administrative roads would maintain an important recreational opportunity for park visitors. Many visitors access and travel through the park on bicycles. Bicycles provide visitors with a different experience than other forms of recreation and transportation, such as driving, horseback riding, or hiking. The administrative roads provide approximately 15.82 miles of bicycling access in the park. Bicycling on administrative roads provides more solitude than bicycling on park roads by removing bicyclists from public motor vehicle traffic. This allows for a more contemplative experience for those who seek to interact with and learn about the history of the park in that type of environment.

Adding bicycles to the hiking trails on Lookout Mountain is consistent with the GMPA and the Foundation Document, which emphasize improvements to the visitor experience through the expansion of appropriate recreational activities, including bicycling. These management actions are also consistent with Secretary of the Interior Order 3366, “Increasing Recreational Opportunities on Lands and Waters Managed by the U.S. Department of the Interior,” which directs the NPS to expand access to outdoor recreational opportunities on NPS-managed lands and waters.

Currently, bicycle traffic in Lookout Mountain Battlefield is limited to the Upper Truck Trail and Lower Truck Trail, administrative roads that connect the park to the regional bicycle trail system on the Tennessee side. Bicyclists can access the Upper Truck Trail from the Guild Trail, which is part of the regional bicycle trail system owned by the Lookout Mountain Conservancy. In the opposite direction, the Upper Truck Trail connects to the Jackson Gap and John Smartt trails in the park. These trails connect to the regional bicycle trail system in Georgia. Under current rules, when bicyclists reach the end of the Upper Truck Trail, in order to continue riding they must turn around and exit the park on the Tennessee side from where they entered. Otherwise, bicyclists must carry their bikes up hiking trails to exit the park on the Georgia side. Under these circumstances, hikers are the only user group that has continuous access through the park from the regional trail systems in Georgia and Tennessee. If bicycles were allowed on the two miles of the Jackson Gap Trail and the upper portion of the John Smartt Trail identified in the EA, then bicyclists could ride the entire 21 miles, through the park, in either direction between Cloudland Canyon State Park in Georgia and Chattanooga in Tennessee.

Wildlife

The NPS strives to maintain all components and processes of naturally evolving ecosystems, including the natural abundance, diversity, and ecological integrity of wildlife. Allowing bicycles on the Jackson Gap and upper John Smartt Trails would increase the overall human traffic on those trails by a small amount. The NPS expects most of the bicycle traffic to be slow due to steep grades. Bicycling on the Jackson Gap and John Smartt trails would occur in areas that already receive frequent human visitation. Typically, wildlife avoid these areas during the daylight to avoid humans. Nonetheless, bicycle use in these locations could create the potential for collisions with wildlife, especially along curves of the trails where forward visibility is diminished. It is unlikely that large species, such as deer, would be impacted. Smaller species, however, such as snakes or lizards, could be injured or killed by bicycle tires. These risks would likely have minimal adverse effects due to the expected low incidence rate of collisions on the Jackson Gap and upper John Smartt Trails. Effects upon wildlife from adding bicycles to the hiking trails were dismissed from further analysis in the EA because the NPS concluded they would be negligible and not likely result in unacceptable impacts.

The Endangered Species Act (ESA) requires examination of impacts to federally listed threatened, endangered, and candidate species. Section 7 of the ESA requires Federal agencies to consult with the U.S. Fish and Wildlife Service to ensure that any action authorized, funded, or carried out by the agency does not jeopardize the continued existence of listed species or critical habitats. NPS Management Policies 2006 require the NPS to examine the impacts to Federal candidate species, as well as state listed threatened, endangered, candidate, rare, declining, and sensitive species. Park records and field surveys did not identify the potential for individual species, or habitat for any of the known special status species, within the vicinity of the hiking trails where bicycles would be allowed nor in proximity to the administrative roads where bicycles are presently allowed. The U.S. Fish and Wildlife Service was consulted and determined the proposed action is not expected to significantly impact fish and wildlife resources under the jurisdiction of the U.S Fish and Wildlife Service. For these reasons, impacts to special status species from adding bicycles to the hiking trails were dismissed from detailed analysis in the EA.

Bicycle use on the administrative roads is considerably less than the volume of bicycles using the park roads. Over the past 34 years, relatively few wildlife-bicycle encounters have been observed on administrative roads and even fewer accidents have been reported by the public as a result of those encounters.

Cultural Resources

The NPS preserves and maintains 755 documented historic structures within the park. Most of these are monuments and markers that commemorate the troops that fought across the park landscapes during the two Civil War battles. The NPS expects that allowing bicycles on the hiking trails would result in a relatively small increase (approximately 200 bicyclists per year) to the total number of recreational visitors on the trails. The NPS does not expect this level of increased use would have a measurable impact to cultural resources within this area.

None of the park's documented commemorative features are located along the Jackson Gap Trail or the upper John Smartt Trail. These trails were likely constructed by the Civilian Conservation Corps under the Emergency Conservation Works Administration from either Camp Adolph Ochs or Camp Demaray, both located on Lookout Mountain. They have several dry laid retaining walls and wet weather drainage crossings that are constructed of native stone. These early 20th century stone walls and drainage features, the only extant cultural resources on the trails, have required minor and infrequent maintenance by the NPS. NPS staff within the Resource Management Division would increase the frequency of monitoring the retaining walls and drainages to ensure these resources are protected.

Staff from the NPS Southeast Archeological Center (SEAC) conducted shovel test surveys and a metal detector survey within the area potentially affected by bicycles on the hiking trails. Archeologists tested six sections of the trails, including areas proposed for widening a switchback and locations identified for sign and fence installation. The SEAC determined there was no potential for significant archeological resources to be harmed.

The NPS would implement management strategies to minimize impacts to resources on the trails, including: (1) Issuing citations for off-trail use; (2) increasing monitoring, education, and enforcement of regulations; (3) re-evaluating trail design; and (4) requesting assistance from trail advocates to establish a defined trail edge by barricading short cuts.

Over the last 34 years, the NPS has not recorded any adverse effects to historic structures or archeological resources caused by bicycle use on the administrative roads. For this reason, the NPS does not expect that the continued use of bicycles on the administrative roads would adversely affect the park's cultural resources.

Natural, Scenic and Aesthetic Values

The 30-mile network of trails within Lookout Mountain Battlefield and more than 80 miles of trail throughout the park provide ample opportunities for hikers to view wildlife and enjoy natural beauty and scenic views. The proposed actions would extend similar opportunities to bicyclists on approximately two miles of the Jackson Gap Trail and the upper portion of the John Smartt Trail and maintain similar opportunities for bicyclists on the administrative roads. Allowing bicycles on the hiking trails would allow more regional trail users to experience the scenic vistas and natural features in the park.

New signs on the hiking trails would be small scale, low stature, natural metal, and post-mounted with incised letters. Scale and placement would minimally affect the natural landscape. Installation would occur in disturbed locations within the trail beds. Kiosks at trailheads and other locations would be based on standard NPS designs that are appropriate for the selected locations. Aside from signage, bicycle use on the trails would not require the addition of any human-made features and would have no other visual impacts on natural landscape. Trail width and trail tread would remain the same as they currently are on both trails: Single-track trail with a width ranging from 2-4 feet with natural trail tread. Allowing bicycle use on these trails would not negatively impact opportunities for other visitors to experience scenic and aesthetic values on these trails.

Existing signs along the administrative roads provide route information and safety messages about bicycling. The continued use of bicycles on the administrative roads would not require the addition of new human-made features that would impact the natural landscape at the Chickamauga Battlefield.

Safety Considerations

The NPS will install new signs on the trails that convey safety messages about bicycling. Due to steep grades, the hiking trails would receive a “Black Diamond” designation according to the criteria that has been developed by the International Mountain Biking Association (IMBA). Signs and educational materials would be posted at the Jackson Gap trailhead, at the intersection of the John Smartt Trail and Upper Truck Trail, near switchbacks, and in other strategic locations to convey important safety and regulatory information. Signs and educational materials would provide guidance on trail etiquette to mitigate the potential for user conflict and to help establish user norms. Signs would provide route names, trail direction and appropriate practices for yielding to others.

The Jackson Gap and John Smartt Trails are well-constructed hiking trails within a natural zone of the park. They have existed for many decades in good condition without a high frequency of maintenance. Trail crews would continue to assess the Jackson Gap and John Smartt Trail during annual condition assessments, on regular patrols, and as reports are received concerning fallen trees or other hazards. Crews would continue to clean all drainages and culverts, remove loose rocks and debris, and prune vegetation as necessary. Trail rovers would conduct monthly monitoring to assist in identifying any additional maintenance needs. Volunteers will patrol these trails to provide safety information.

Since the implementation of the current incident reporting system, there have been no reports of bicycle accidents on park administrative roads. As stated above, the administrative roads have signs conveying wayfinding information and safety messages.

Electric Bicycles

The NPS will evaluate the environmental impacts of allowing electric bicycles (e-bikes) on the administrative roads and hiking trails under the National Environmental Policy Act (NEPA) after the conclusion of the written determination process. E-bikes will only be considered in locations where traditional bicycles are already allowed. E-bikes will not be allowed anywhere in the park until compliance with the NEPA is completed and the Superintendent designates those locations for e-bike use in accordance with 36 CFR 1.7.

Determination

Based upon the foregoing, the NPS determines that (1) continuing to allow bicycle use on the administrative roads identified above; and (2) allowing bicycle use on the two miles of the Jackson Gap Trail and the upper section of the John Smartt Trail (identified in the EA) are consistent with the protection of the park's natural, scenic and aesthetic values; safety considerations; and management objectives; and will not disturb wildlife or park resources.

Jon Bennett,
Superintendent.

[FR Doc. 2021-00595 Filed 1-13-21; 8:45 am]

BILLING CODE 4312-52-P